DEPARTMENT OF COMMERCE

National Oceanic and Atmospheric Administration

[I.D. 091906A]

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council); its Research Set-Aside (RSA) Committee; its Protected Resources Committee; its Law Enforcement Committee; and, its Executive Committee will hold public meetings.

DATES: The meetings will be held on Tuesday, October 10, 2006 through Thursday, October 12, 2006. See SUPPLEMENTARY INFORMATION for a meeting agenda.

ADDRESSES: This meeting will be held at The Hilton Garden Inn, 5353 North Virginia Dare Trail, Kitty Hawk, NC 27949; telephone: (252) 261-1290.

Council address: Mid-Atlantic Fishery Management Council, 300 S. New Street, Dover, DE 19904, telephone: (302) 674-2331.

FOR FURTHER INFORMATION CONTACT: Daniel T. Furlong, Executive Director, Mid-Atlantic Fishery Management Council; telephone: (302) 674-2331, extension 19.

SUPPLEMENTARY INFORMATION:

Tuesday, October 10, 2006

1 p.m. until 3 p.m.-The Research Set-Aside Committee will meet to review, discuss and establish RSA priorities for 2008, receive an update from NMFS on program administrative changes, discuss status of projects and additional project requirements.

3 p.m. until 4 p.m.-The Protected Resources Committee will meet to address issues regarding Atlantic Trawl Fisheries Take Reduction Team initiatives and potential impacts on Council managed species.

4 p.m. until 4:30 p.m.-The Law Enforcement Committee will meet to review Fishery Achievement Award (FAA) nominations and recommend recipients for recognition.

Wednesday, October 11, 2006

8:30 a.m.-The Council will convene for the swearing-in of new and reappointed Council members, and the elections of a Chairman and Vice Chairman for the Council. Following the elections, the Council will receive a presentation by New England Council staff regarding its Marine Protected Areas (MPA), Habitat Areas of Particular Concern (HAPC), Essential Fish Habitat (EFH) activities and their potential impacts on Mid-Atlantic Council constituents and jurisdiction.

10 a.m. until 11:30 a.m.-The Council will review alternatives for Framework 1 to the Surfclam/Ocean Quahog Fishery Management Plan (FMP) regarding adoption of Vessel Monitoring Systems (VMS) and electronic reporting by clam industry.

12:30 p.m. until 3 p.m.-The Council will approve its August 2006 Council meeting minutes, review actions from the August Council meeting, and receive various reports provided to the Council during its regular business session.

3 p.m.-The Council will review and adopt the public hearing document for Amendment 14 to the Summer Flounder, Scup, and Black Sea Bass FMP regarding scup rebuilding.

Thursday, October 12, 2006

8 a.m. until 9 a.m.-The Executive Committee will meet to review the 2007 Annual Work Plan.

9 a.m.-The Council will convene to review Amendment 15 to the Summer Flounder, Scup and Black Sea Bass FMP and refine the list of potential actions to be included in this Amendment.

1 p.m. until 5 p.m.-The Council will receive a presentation from the Northeast Fisheries Science Center on the state of the Atlantic marine environment and fish growth rates of various Council stocks, review and approve the public hearing document for the Omnibus Amendment to Council's FMPs regarding Standardized Bycatch Reporting Methodology (SBRM), and address any continuing or new business.

Although non-emergency issues not contained in this agenda may come before the Council and its Committees for discussion, these issues may not be the subject of formal Council or Committee action during this meeting. Council and Committee action will be restricted to those issues specifically listed in this notice and any issues arising after publication of this notice that require emergency action under section 305(c) of the Magnuson-Stevens Act provided the public has been notified of the Council's intent to take final actions to address such emergencies.

Special Accommodations

These meetings are physically accessible to people with disabilities. Requests for sign language interpretation or other auxiliary aids should be directed to M. Jan Saunders at (302) 674-2331 extension 18 at least 5 days prior to the meeting date.

Dated: September 20, 2006.
Tracey L. Thompson,
Acting Director, Office of Sustainable Fisheries, National Marine Fisheries Service.

[FR Doc. E6-15692 Filed 9-25-06; 8:45 am]

BILLING CODE 3510-22-S